DEPARTMENT OF THE TREASURY

Submission for OMB Review; Comment Request

February 5, 2013.

The Department of the Treasury will submit the following information collection requests to the Office of Management and Budget (OMB) for review and clearance in accordance with the Paperwork Reduction Act of 1995, Public Law 104-13, on or after the date of publication of this notice.

DATES: Comments should be received on or before March 11, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0115.

Type of Review: Extension without change of a currently approved collection.

Title: Miscellaneous Income.

Form: 1099 MISC.

Abstract: Form 1099-MISC is used by payers to report payments of $600 or more of rents, prizes and awards, medical and health care payments, nonemployee compensation, and crop insurance proceeds, $10 or more of royalties, any amount of fishing boat proceeds, certain substitute payments, golden parachute payments, and an indication of direct sales of $5,000 or more.

Affected Public: Private Sector: Businesses and other for-profits.

Estimated Total Burden Hours: 24,639,062.

OMB Number: 1545-0118.

Type of Review: Extension without change of a currently approved collection.

Title: Taxable Distributions Received From Cooperatives.

Form: 1099-PATR.

Abstract: Form 1099-PATR is used to report patronage dividends paid by cooperatives (IRC sec. 6044). The information is used by IRS to verify reporting compliance on the part of the recipient.

Affected Public: Private Sector: Businesses or other for-profits.

Estimated Total Burden Hours: 509,895.

OMB Number: 1545-2148.

Type of Review: Extension without change of a currently approved collection.

Title: Return of Certain Excise Taxes Under Chapter 43 of the Internal Revenue Code.

Form: 8928.

Abstract: Form 8928 is used by employers, group health plans, HMOs, and third party administrators to report and pay excise taxes due for failures under sections 4980B, 4980D, 4980E, and 4980G.

Affected Public: Private Sector: Businesses or other for-profits.

Estimated Total Burden Hours: 2,348.

Dawn D. Wolfgang,
Treasury PRA Clearance Officer.

[FR Doc. 2013-02878 Filed 2-7-13; 8:45 am]

BILLING CODE 4830-01-P